INTERNATIONAL TRADE COMMISSION

Notice of Appointment of Individuals To Serve as Members of Performance Review Boards

AGENCY: United States International Trade Commission.

ACTION: Appointment of Individuals to serve as members of Performance Review Board.

DATES: Effective: July 19, 2006.

FOR FURTHER INFORMATION CONTACT: Jeri L. Buchholz, Director of Human Resources, U.S. International Trade Commission (202) 205-2651.

SUPPLEMENTARY INFORMATION: The Chairman of the U.S. International Trade Commission has appointed the following individuals to serve on the Commission's Performance Review Board (PRB):

Chairman of PRB—Vice-Chairman Shara L. Aranoff

Chairman of PRB—Commissioner Charlotte R. Lane

Member—Robert A. Rogowsky

Member—Lyn M. Schlitt

Member—Stephen A. McLaughlin

Member—Lynn I. Levine

Member—Robert G. Carpenter

Member—Robert B. Koopman

Member—James Lyons

Member—Karen Laney-Cummings

This notice is published in the Federal Register pursuant to the requirement of 5 U.S.C. 4314(c)(4). Hearing-impaired individuals are advised that information on this matter can be obtained by contacting our TDD terminal on (202) 205-1810.

By order of the Chairman.
Issued: July 21, 2006.
Marilyn R. Abbott,
Secretary to the Commission.

[FR Doc. E6-11966 Filed 7-26-06; 8:45 am]

BILLING CODE 7020-02-P